DEPARTMENT OF EDUCATION

34 CFR Part 674

Federal Perkins Loan Program

AGENCY: Department of Education.

ACTION: Final regulations.

SUMMARY: The Secretary amends the Federal Perkins Loan Program regulations. The regulations replace all references and forms of the term “Direct Loan” in the Federal Perkins Loan Program regulations with the acronym “NDSL” in order to eliminate confusion between the National Direct Student Loan (NDSL) Program and the William D. Ford Federal Direct Loan Program.

DATES: These regulations are effective May 8, 2000.

FOR FURTHER INFORMATION CONTACT: Ms. Vanessa Freeman, Program Specialist, U.S. Department of Education, 400 Maryland Avenue, SW., Room 3045, Regional Office Building 3, Washington, DC 20202-5449. Telephone: (202) 708-8242.

If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION: Regulations amending the Federal Perkins Loan Program were published in proposed form on July 29, 1999. The proposed regulations were published in conformance with Section 492 of the Higher Education Act of 1965, as amended (the HEA), which requires the Secretary to conduct a negotiated rulemaking process to develop proposed regulations. Except in certain circumstances, the HEA also requires the Secretary to publish proposed regulations that conform to consensus agreements reached during the negotiated rulemaking process. In the preamble of the proposed regulations, the Secretary made a commitment to publish a technical corrections package that would replace all references to “Direct Loan(s)” in the Federal Perkins Loan Program and Student Assistance General Provisions regulations with “National Direct Student Loan Program” or the acronym “NDSL.” This commitment reflected an agreement by negotiators that such a change would clarify the regulations by eliminating the potential confusion between the National Direct Student Loan Program and the William D. Ford Federal Direct Loan Program. These final regulations replace the references to “Direct Loan(s)” in 34 CFR part 674 only. All references to “Direct Loan(s)” contained in the Student Assistance General Provisions refer correctly to the William D. Ford Federal Direct Loan Program.

Waiver of Negotiated Rulemaking

Under the Administrative Procedure Act (5 U.S.C. 553) the Department generally offers interested parties the opportunity to comment on proposed regulations. However, these regulations merely reflect technical changes that add clarity to the regulatory provisions. The changes do not establish or affect substantive policy and are made as a result of consensus reached by all affected parties during the negotiated rulemaking procedures required under section 492 of the HEA. Therefore, under 5 U.S.C. 553(b)(B), the Secretary has determined that the use of negotiated rulemaking or proposed regulations is unnecessary and contrary to the public interest.

Regulatory Flexibility Act Certification

The Secretary certifies that these regulations would not have a significant economic impact on a substantial number of small entities.

Because these regulations reflect technical changes that add clarity to the regulatory provisions, the regulations would not have an impact on small entities.

Paperwork Reduction Act of 1995

These regulations do not contain any information collection requirements.

Intergovernmental Review

This program is subject to the requirements of Executive Order 12372 and the regulations in 34 CFR part 79. The objective of the Executive order is to foster an intergovernmental partnership and a strengthened federalism by relying on processes developed by State and local governments for coordination and review of proposed Federal financial assistance.

In accordance with the order, we intend this document to provide early notification of the Department's specific plans and actions for this program.

Assessment of Education Impact

Based on our own review, we have determined that these final regulations do not require transmission of information that any other agency or authority of the United States gathers or makes available.

Electronic Access to This Document

You may view this document in text or Adobe Portable Document Format (PDF) on the Internet at the following sites:

http://ocfo.ed.gov/fedreg.htm

http://www.ed.gov/news.html

http://ifap.ed.gov/csb_html/fedlreg.htm

To use the PDF you must have the Adobe Acrobat Reader Program with Search, which is available free at the first of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

(Catalog of Federal Domestic Assistance Number: 84.037 Federal Perkins Loan Program)

List of Subjects in 34 CFR Part 674

Loan programs—education, Student aid, Reporting and recordkeeping requirements.

Dated: March 31, 2000.
Richard W. Riley,
Secretary of Education.

For the reasons discussed in the preamble, the Secretary amends title 34 of the Code of Federal Regulations as follows:

PART 674—FEDERAL PERKINS LOAN PROGRAM

1. The authority for part 674 continues to read as follows:

Authority: 20 U.S.C. 1087aa-1087ii and 20 U.S.C. 421-429, unless otherwise noted.

2. Section 674.1 is amended by revising the reference to “National Direct Student Loan Program” to read “National Direct Student Loan (NDSL) Program” in paragraph (b)(1).

3. Section 674.2 is amended by removing the reference to “Direct loan” from the list of terms in paragraph (a).

4. The following sections in part 674 are amended by removing the word “Direct” and adding, in its place, “NDSL”:

a. § 674.9(g)

b. § 674.19(e)(4)(iv)

c. § 674.31(b)(2)(i)(C)

d. § 674.33(b)(3)

e. § 674.40(b)

f. § 674.53 heading

g. § 674.53(a)(1)(ii)

h. § 674.53(b)(2)

i. § 674.53(c)(2)

j. § 674.56 heading

k. § 674.56(a)(2)

l. § 674.56(b)(2)

m. § 674.56(c)(2)

n. § 674.57 heading

o. § 674.57(a)(2)

p. § 674.58(a)(1)

q. § 674.61(a)

r. § 674.61(b)

s. § 674.61(d)

t. § 674.63(b)

5. The following sections in part 674 are amended by removing the words “a Direct” and adding, in their place, “an NDSL”:

a. § 674.59(b) heading

b. § 674.59(b)(1)

c. § 674.60(a)(2)

6. The following sections in part 674 are amended by removing the words “a Direct Loan” and adding, in their place, “an NDSL”:

a. § 674.2 (definition of “Student loan”)

b. § 674.31(b)(5)(ii)(A)

c. § 674.33(b)(6)(ii)

d. § 674.36(a)

7. The following sections in part 674 are amended by removing the words “a Direct loan” and adding, in their place, “an NDSL”:

a.-b. § 674.31(b)(5)(ii)(B)

c. § 674.34(a)

d. § 674.34(c)(2)

e. § 674.37(a)(1)

f. § 674.53(a)(1)(i)

8. The following sections in part 674 are amended by removing the words “Direct loan” and adding, in their place, “NDSL”:

a. § 674.9(h)(2)

b. § 674.53(b)(1) and (c)(1)

c. § 674.56(a)(1)

d. § 674.56(b)(1)

e. § 674.56(c)(1)

9. The following sections in part 674 are amended by removing the words “Direct Loan” and adding, in their place, “NDSL”:

a. § 674.52(d)

b. § 674.57(a)(1)

10. The following sections in part 674 are amended by removing the words “Direct loans” and adding, in their place, “NDSLs”:

a. § 674.2 (definition of “Initial grace period”)

b. § 674.33(c)(2)

c. § 674.34 heading

d. § 674.36 heading

e. § 674.37 heading

f. § 674.42(c)(1)(i)

g. § 674.60 heading

11. The following sections are amended by removing the words “Direct Loans” and adding, in their place, “NDSLs”:

a. § 674.12(a)

b. § 674.12(b)

c. § 674.31(b)(2)(i)(A)

d. § 674.31(b)(2)(i)(B)

12. Section 674.46 is amended by removing the words “National Direct” and adding, in their place, “NDSL” in paragraph (a)(1)(i).

[FR Doc. 00-8521 Filed 4-5-00; 8:45 am]

BILLING CODE 4000-01-U